INTERNATIONAL TRADE COMMISSION

[Investigation No. 337-TA-847]

Certain Mobile Phones and Tablet Computers, and Components Thereof; Notice of the Commission's Determination To Grant the Parties' Joint Motion To Terminate the Investigation Based on a Settlement Agreement; Termination of Investigation

AGENCY: U.S. International Trade Commission.

ACTION: Notice.

SUMMARY: Notice is hereby given that the U.S. International Trade Commission has determined to grant the parties' joint motion to terminate the investigation on the basis of a settlement agreement.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 8, 2012, based on a complaint filed by Nokia Corp., Nokia Inc., and Intellisync Corp. (collectively, “Nokia”). 77 FR 34063-64. The Commission's notice of investigation named as respondents HTC Corporation; HTC America, Inc. (together, “HTC”); and Exedea, Inc. (“Exedea”). Id. at 34064. On June 19, 2012, counsel for Exedea announced that Exedea had dissolved as a corporate entity. The complaint and notice of investigation sent to Exedea were returned as undeliverable, and no further action was taken to serve Exedea. On July 16, 2012, Google Inc. (“Google”) moved to intervene in this investigation with respect to certain patents, and was granted intervenor status on August 7, 2012. The Office of Unfair Import Investigations did not participate in this investigation.

Originally, Nokia asserted numerous claims from nine patents against HTC. Throughout the course of the investigation, several IDs partially terminated the investigation with respect to various patents and claims. See Order No. 7 (Feb. 7, 2013) (terminating the investigation with respect to U.S. Patent No. 7,366,529 because the patent was covered by an arbitration agreement), not reviewed (Mar. 11, 2013); Order No. 10 (Apr. 12, 2013) (terminating the investigation with respect to U.S. Patent Nos. 7,106,293; 6,141,664; and 7,209,911 based on Nokia's motion to withdraw the patents), not reviewed (Apr. 30, 2013); Order No. 14 (May 14, 2013) (terminating the investigation with respect to U.S. Patent No. 6,728,530 based on Nokia's motion to withdraw the patent), not reviewed (May 29, 2013); Order No. 33 (June 13, 2013) (terminating the investigation with respect to U.S. Patent No. 5,570,369 based on Nokia's motion to withdraw the patent), not reviewed (July 12, 2013). By the time of the final ID, Nokia asserted only claim 1 of U.S. Patent No. 5,884,190; claims 6, 8, 10, and 11 of U.S. Patent No. 6,393,260; and claims 2, 18, 19, 21, and 23 of U.S. Patent No. 7,415,247.

On September 23, 2013, the presiding ALJ issued his final ID, finding a violation of section 337. On October 23, 2013, HTC filed a petition for review of the ID. On December 9, 2013, the Commission determined to review the final ID in part. 78 FR 75942-43 (Dec. 13, 2013).

On February 7, 2014, Nokia and HTC jointly moved to terminate the investigation based on a settlement agreement (“Motion”). The Motion contains two confidential settlement document attachments, and states there are no other agreements, written or oral, express or implied, between Nokia and HTC regarding the subject matter of this Investigation. The Motion further states that the termination of this investigation pursuant to a settlement agreement poses no threat to the public interest and that it is in the interest of the public and administrative economy to grant the Motion. The Motion also requests that the Commission limit service of the confidential settlement documents to the settling parties because the disclosure of the documents will prejudice Nokia's ongoing discussions with Google and its customers.

On February 12, 2014, Google stated that it has no position on the Motion because none of the patents upon which it had intervened were currently before the Commission.

The Commission finds that the Motion complies with the Commission Rules, and there is no evidence that the proposed settlement will be contrary to the public interest. The Commission therefore determines to grant the Motion, and to terminate the investigation. The Commission also finds that good cause exists to limit the service of the confidential settlement documents to the settling parties, and grants the request to limit service of the confidential settlement documents to the settling parties.

The authority for the Commission's determination is contained in section 337 of the Tariff Act of 1930, as amended (19 U.S.C. 1337), and in Part 210 of the Commission's Rules of Practice and Procedure (19 CFR part 210).

Issued: March 7, 2014.
By order of the Commission.
Lisa R. Barton,
Acting Secretary to the Commission.

[FR Doc. 2014-05468 Filed 3-12-14; 8:45 am]

BILLING CODE 7020-02-P